DEPARTMENT OF ENERGY

Federal Energy Regulatory Commission

Combined Notice of Filings

Take notice that the Commission has received the following Natural Gas and Oil Pipeline Rate and Refund Report filings:

Filings Instituting Proceedings

Docket Numbers: RP24-72-000.

Applicants: El Paso Natural Gas Company, L.L.C.

Description: 4(d) Rate Filing: Negotiated Rate Agreements Update (Pioneer Nov 2023) to be effective 11/1/2023.

Filed Date: 10/27/23.

Accession Number: 20231027-5131.

Comment Date: 5 p.m. ET 11/8/23.

Docket Numbers: RP24-73-000.

Applicants: Cheniere Creole Trail Pipeline, L.P.

Description: Compliance filing: CTPL Transportation Retainage Adjustment and Housekeeping Changes to be effective 12/1/2023.

Filed Date: 10/27/23.

Accession Number: 20231027-5149.

Comment Date: 5 p.m. ET 11/8/23.

Docket Numbers: RP24-74-000.

Applicants: Cheniere Corpus Christi Pipeline, LP.

Description: Compliance filing: CCPL Address Change Filing to be effective 12/1/2023.

Filed Date: 10/27/23.

Accession Number: 20231027-5152.

Comment Date: 5 p.m. ET 11/8/23.

Docket Numbers: RP24-75-000.

Applicants: El Paso Natural Gas Company, L.L.C.

Description: 4(d) Rate Filing: Negotiated Rate Agmts Update (Hartree Nov 23) to be effective 11/1/2023.

Filed Date: 10/27/23.

Accession Number: 20231027-5171.

Comment Date: 5 p.m. ET 11/8/23.

Docket Numbers: RP24-76-000.

Applicants: Midship Pipeline Company, LLC.

Description: Compliance filing: Midship Pipeline Change of Address Filing to be effective 12/1/2023.

Filed Date: 10/27/23.

Accession Number: 20231027-5183.

Comment Date: 5 p.m. ET 11/8/23.

Docket Numbers: RP24-77-000.

Applicants: Tennessee Gas Pipeline Company, L.L.C.

Description: 4(d) Rate Filing: Negotiated Rate Agreements—Various Shippers Nov 2023 to be effective 11/1/2023.

Filed Date: 10/27/23.

Accession Number: 20231027-5215.

Comment Date: 5 p.m. ET 11/8/23.

Docket Numbers: RP24-78-000.

Applicants: Southeast Supply Header, LLC.

Description: 4(d) Rate Filing: Negotiated Rate—FPL 840192 to be effective 11/1/2023.

Filed Date: 10/30/23.

Accession Number: 20231030-5073.

Comment Date: 5 p.m. ET 11/13/23.

Docket Numbers: RP24-79-000.

Applicants: Stagecoach Pipeline & Storage Company LLC.

Description: 4(d) Rate Filing: Negotiated Rate Agreement Filing—National Fuel to be effective 11/1/2023.

Filed Date: 10/30/23.

Accession Number: 20231030-5089.

Comment Date: 5 p.m. ET 11/13/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR23-40-001.

Applicants: Regency Intrastate Gas LP.

Description: 284.123 Rate Filing: Regency Intrastate Gas LP Revised Supplemental SOC to be effective 11/1/2023.

Filed Date: 10/27/23.

Accession Number: 20231027-5108.

Comment Date: 5 p.m. ET 11/9/23.

Docket Numbers: RP23-1035-000.

Applicants: Transcontinental Gas Pipe Line Company, LLC.

Description: Report Filing: Regional Energy Access Expansion Rates—Notification on In-Service to be effective N/A.

Filed Date: 10/27/23.

Accession Number: 20231027-5173.

Comment Date: 5 p.m. ET 11/8/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 30, 2023.
Debbie-Anne A. Reese,
Deputy Secretary.

[FR Doc. 2023-24325 Filed 11-2-23; 8:45 am]

BILLING CODE 6717-01-P